ENVIRONMENTAL PROTECTION AGENCY

[FRL 6980-2]

Agency Information Collection Activities; Proposed Collection; Submission for OMB Review; Comment Request; 2001 Emergency Planning and Community Right-To-Know Act (EPCRA) and Risk Management Program (RMP) Implementation Status Questionnaire for Tribal Emergency Response Commissions (TERCs) and Their Duly Appointed Local Emergency Planning Committee(s) (LEPCs)

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: 2001 Emergency Planning and Community Right-to-Know Act (EPCRA) and Risk Management Program (RMP) Implementation Status Questionnaire for Tribal Emergency Response Commissions (TERCs) and Their Duly Appointed Local Emergency Planning Committee(s) (LEPCs), EPA ICR No. 2004.01. The ICR describes the nature of the information collection and its expected burden and cost; where appropriate, it includes the actual data collection instrument.

DATES: Comments must be submitted on or before June 18, 2001.

ADDRESSES: Send comments, referencing EPA ICR No. 2004.01 to the following addresses: Sandy Farmer, U.S. Environmental Protection Agency, Collection Strategies Division (Mail Code 2822), 1200 Pennsylvania Avenue, NW., Washington, DC 20460; and to Office of Information and Regulatory Affairs, Office of Management and Budget (OMB), Attention: Desk Officer for EPA, 725 17th Street, NW., Washington, DC 20503.

FOR FURTHER INFORMATION CONTACT: For a copy of the ICR, contact Sandy Farmer at EPA by phone at (202) 260-2740, by E-mail at Farmer.sandy@epamail.epa.gov, or download off the Internet at http://www.epa.gov/icr and refer to EPA ICR No. 2004.01. For technical questions about the ICR contact Sam Agpawa on 415-744-2342.

SUPPLEMENTARY INFORMATION: Title: 2001 Emergency Planning and Community Right-to-Know Act (EPCRA) and Risk Management Program (RMP) Implementation Status Questionnaire for Tribal Emergency Response Commissions (TERCs) and Their Duly Appointed Local Emergency Planning Committee(s) (LEPCs), EPA ICR No. 2004.01. This is a new collection.

Abstract: The Environmental Protection Agency, Region IX, Superfund Division, proposes to conduct a Regional survey of the Tribal Emergency Response Commissions (TERCs). The information collected in this survey will be used to assess the progress, status, needs, resources and activity level of TERCs. The information will be used by EPA Region IX staff to gain a better understanding of EPA Region IX tribes' actual implementation of EPCRA and RMP. The Emergency Planning and Community Right-to-Know Act of 1986 (EPCRA), also known as SARA Title III, and the Risk Management Program (RMP) under the Clean Air Act, 1990, section 112(r) and 40 CFR part 68, June 20, 1996, introduced fundamental changes in the regulation of chemical facilities and the prevention of and preparedness for chemical accidents. These laws and rules seek to improve emergency preparedness and reduce the risk of chemical accidents by providing information to citizens about the chemicals in their community. EPCRA, in conjunction with the RMP requirements, sought to create partnerships between all levels of government, tribal governments, and the regulated tribal community to identify, prevent, plan, prepare and respond to hazardous material risks in our communities, including tribal lands, reservations, rancherias and colonies. The purpose of this survey is to obtain input from the tribal organizations to improve Region IX's EPCRA and RMP programs.

An agency may not conduct or sponsor, and a person is not required to respond to, a collection of information unless it displays a currently valid OMB control number. The OMB control numbers for EPA's regulations are listed in 40 CFR part 9 and 48 CFR chapter 15. The Federal Register document required under 5 CFR 1320.8(d), soliciting comments on this collection of information was published on January 10, 2001 (66 FR 1975); no comments were received.

Burden Statement: The annual public reporting and record keeping burden for this collection of information is estimated to average 2 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: TERCs and Tribal LEPCs.

Estimated Number of Respondents: 145.

Frequency of Response: Once.

Estimated Total Annual Hour Burden: 290 Hours.

Estimated Total Annualized Capital, Operating/Maintenance Cost Burden: $0.

Send comments on the Agency's need for this information, the accuracy of the provided burden estimates, and any suggested methods for minimizing respondent burden, including through the use of automated collection techniques to the addresses listed above. Please refer to EPA ICR No. 2004.01 in any correspondence.

Dated: May 3, 2001.
Oscar Morales,
Director, Collection Strategies Division.

[FR Doc. 01-12578 Filed 5-17-01; 8:45 am]

BILLING CODE 6560-50-P